DEPARTMENT OF ENERGY

Federal Energy Regulatory Commission

[Project No. 15275-000]

Joe Stephens; Notice of Preliminary Permit Application Accepted for Filing and Soliciting Comments, Motions To Intervene, and Competing Applications

On May 31, 2022, Mr. Joe Stephens filed an application for a preliminary permit, pursuant to section 4(f) of the Federal Power Act (FPA), proposing to study the feasibility of the Joe Stephens Small Hydroelectric Power #1 (Small Hydroelectric Power #1 or project) to be located on the east coast of Baranof Island, near Sitka, Alaska. The sole purpose of a preliminary permit, if issued, is to grant the permit holder priority to file a license application during the permit term. A preliminary permit does not authorize the permit holder to perform any land-disturbing activities or otherwise enter upon lands or waters owned by others without the owners' express permission.

The proposed project would consist of the following: (1) a lake with a surface area of 148 acres, having a total storage capacity of 45,000,000 cubic-feet at a normal maximum operating elevation of 460 feet above mean sea level (msl); (2) an intake structure at a set distance below the lake level that will limit the amount of potential draw down; (3) an approximately 1,000 foot penstock (engineering specifications still to be determined); (4) a power house; (5) a single 500-kW turbine; (6) an approximately 100 foot tailrace conduit connecting the turbine outlet with Nelson Bay; (7) a charging station that will supply power to floating vessels in the vicinity of the project; and (8) appurtenant facilities.

The estimated annual generation of the Project would be 4,104 MW-hr.

Applicant Contact: Joe Stephens, 3609 Tongass Ave., #5416, Ketchikan, AK 99901, (757) 652-7689.

FERC Contact: Jeffrey Ackley at jeffrey.ackley@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-15275-000.

More information about this project, including a copy of the application, can be viewed or printed on the “eLibrary” link of Commission's website at http://www.ferc.gov/docs-filing/elibrary.asp. Enter the docket number (P-15275) in the docket number field to access the document. For assistance, contact FERC Online Support.

Dated: June 10, 2022.
Debbie-Anne A. Reese,
Deputy Secretary.

[FR Doc. 2022-12997 Filed 6-15-22; 8:45 am]

BILLING CODE 6717-01-P